DEPARTMENT OF THE INTERIOR

National Park Service

[NPS-WASO-NAGPRA-NPS0035976; PPWOCRADN0-PCU00RP14.R50000]

Notice of Inventory Completion: Kansas City Museum, Kansas City, MO

AGENCY: National Park Service, Interior.

ACTION: Notice.

SUMMARY: In accordance with the Native American Graves Protection and Repatriation Act (NAGPRA), the Kansas City Museum (KCM) has completed an inventory of human remains and has determined that there is a cultural affiliation between the human remains and Indian Tribes or Native Hawaiian organizations in this notice. The human remains were removed from Platte County, MO.

DATES: Repatriation of the human remains in this notice may occur on or after July 10, 2023.

ADDRESSES: Lisa Shockley, Kansas City Museum, 3218 Gladstone Blvd., Kansas City, MO 64133, telephone (816) 702-7700, email lshockley@kansascitymuseum.org.

SUPPLEMENTARY INFORMATION: This notice is published as part of the National Park Service's administrative responsibilities under NAGPRA. The determinations in this notice are the sole responsibility of the Kansas City Museum. The National Park Service is not responsible for the determinations in this notice. Additional information on the determinations in this notice, including the results of consultation, can be found in the inventory or related records held by the Kansas City Museum.

Description

In 1954, human remains representing, at minimum, one individual were removed from site 23PL1, commonly referred to as the Renner Site, in Platte County, MO. These human remains (catalogue number: I.1995.268 (part of 2000.7)) were excavated with the private landowner's permission during an archeological project conducted jointly by the Kansas City Museum, the University of Missouri, and the Kansas City Archaeological Society. The human remains—skull fragments—belong to a subadult of unknown sex. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, historical, and expert opinion.

Determination

Pursuant to NAGPRA and its implementing regulations, and after consultation with the appropriate Indian Tribes and Native Hawaiian organizations, the Kansas City Museum has determined that:

• The human remains described in this notice represent the physical remains of at least one individual of Native American ancestry.

• There is a relationship of shared group identity that can be reasonably traced between the human remains described in this notice and the Pawnee Nation of Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after July 10, 2023. If competing requests for repatriation are received, the Kansas City Museum must determine the most appropriate requestor prior to repatriation. Requests for joint repatriation of the human remains are considered a single request and not competing requests. The Kansas City Museum is responsible for sending a copy of this notice to the Indian Tribe identified in this notice.

Authority: Native American Graves Protection and Repatriation Act, 25 U.S.C. 3003, and the implementing regulations, 43 CFR 10.9, 10.10, and 10.14.

Dated: May 31, 2023.
Melanie O'Brien,
Manager, National NAGPRA Program.

[FR Doc. 2023-12281 Filed 6-7-23; 8:45 am]

BILLING CODE 4312-52-P